DEPARTMENT OF COMMERCE

International Trade Administration

U.S. Multi-Sector Trade Mission to South India and Sri Lanka

AGENCY: International Trade Administration, Department of Commerce.

ACTION: Amendment to Notice.

SUMMARY: The United States Department of Commerce, International Trade Administration, U.S. and Foreign Commercial Service is amending the Notice published at 77 FR 48499, August 14, 2012, regarding the U.S. Multi-Sector Trade Mission to South India and Sri Lanka Chennai and Cochin, India and Colombo, Sri Lanka February 3-8, 2013, to add to the targeted sector architecture services related to development of the residential and mixed use, tourism, and healthcare sectors, and encourage applications from U.S. exporters in those sub-sectors. Except as specified herein, all other information in the August 14, 2012 Notice, including the November 30, 2012 application deadline, remains unchanged.

SUPPLEMENTARY INFORMATION:

Background

The rapid growth of the Indian economy (averaging 8% over the past 10 years, though down as low as 6.4% recently) has created a pressing need for housing, hotel and healthcare infrastructure development and the country requires significant outside expertise to meet its ambitious targets. Additionally, Sri Lanka, after years of internal strife and conflicts, is poised to attract 2.5 million tourist arrivals by 2016 and the industry estimates it will need an additional 40,000 rooms in the next five years to achieve this target. The U.S. Department of Commerce, International Trade Administration, U.S. and Foreign Commercial Service anticipates that this current growth and increasing demand in the infrastructure, hospitality and healthcare sectors will provide opportunities for U.S architecture service companies to expand and grow in these areas, and is therefore amending the mission statement for the U.S. Multi-Sector Trade Mission to Chennai and Cochin, India and Colombo, Sri Lanka February 3-8, 2013, to add the architecture services as described below to the list of targeted sectors for this mission, which also includes infrastructure, hospitality, healthcare, and environmental and information technologies.

Amendments

For the reasons stated above, the Mission Description section of the amended Notice published at 77 FR 48499, August 14, 2012, regarding the U.S. Multi-Sector Trade Mission to South India and Sri Lanka Chennai and Cochin, India and Colombo, Sri Lanka February 3-8, 2013, are amended as follows:

1. Under Mission Description, after “expanding markets”, add the following text:

Architecture Services Sub-Sectors

○ Tourism

○ Hospital and Healthcare

○ Residential and Mixed-Use

2. Under Commercial Setting Chennai India, replace “Chennai possesses a broad need for all building types, but corporate campuses, education, housing, infrastructure, and master-planning efforts are the most active development sectors.”, with the following text:

Chennai possesses a broad need for all building types, especially for residential development, tourism and health facilities. The Chennai real estate market has been growing at over 8 per cent a year and there are at least 675 real estate projects underway and 43.5 million square feet of area is awaiting approval for development with the local government. The residential real estate market is expected to register strong growth in 2012, primarily on account of improvement in the information technology (IT) sector, and continued economic growth in the region. Additionally, the SCMS Group, a Kochi-based academic house, plans to develop an academic complex in the Smart City campus with an investment of over $10 million.

3. Under Commercial Setting Colombo Sri Lanka, after “With the return of peace, sectors such as construction, telecommunications, tourism and transportation offer enormous opportunities for U.S. companies.”, add the following text:

The Urban Development Authority, a state agency, has plans to develop many areas of Colombo for tourism, housing, leisure and entertainment. A prime location in Colombo close to several five star hotels and adjoining a lake is earmarked for hotels, restaurants, malls, casinos and other leisure activities. A leading local company has developed plans to convert the Colombo Fort area to an entertainment and leisure district and has plans to attract leading international brands and franchises to this major entertainment and shopping hub. A marina with water sports activities is also planned. The UDA is also implementing projects in the south and north central areas of the country as well. The UDA is under the authority of the Ministry of Defense.

FOR FURTHER INFORMATION CONTACT:

San Jose (Silicon Valley) Export Assistance Center, Aileen Crowe Nandi, Commercial Officer, 55 S. Market Street, Suite 1040, San Jose, CA 95113, Tel: (408) 535-2757, ex. 102, Email: aileen.nandi@trade.gov

U.S. Commercial Service India, James P. Golsen, Principal Commercial Officer for South India, U.S. Commercial Service, Chennai, India, Tel: +91-44-2857-4209, Email: james.golsen@trade.gov.

Elnora Moye,
Trade Program Assistant.

[FR Doc. 2012-24153 Filed 9-28-12; 8:45 am]

BILLING CODE 3510-FP-P